NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

Time and Date: Tuesday, February 23, 2010 from 9:30 a.m. until 1 p.m.

Agenda: Nineteenth Meeting of the National Museum and Library Services Board.

I. Welcome.

II. Approval of Minutes.

III. Financial Update.

IV. Legislative Update.

V. Board Program.

VI. Board Updates.

VII. Closing Remarks by the Director.

VIII. Adjourn.

(Open to the Public.)

Place: The meetings will be held in the Room MO-9 of the Old Post Office, located at 1100 Pennsylvania Avenue, NW., Washington, DC 20506.

FOR FURTHER INFORMATION CONTACT: Elizabeth Lyons, Director of Special Events and Board Liaison, Institute of Museum and Library Services, 1800 M Street, NW., 9th Floor, Washington, DC, 20036. Telephone: (202) 653-4676 or E-mail: elyons@imls.gov.

SUPPLEMENTARY INFORMATION: The National Museum and Library Services Board is established under the Museum and Library Services Act, 20 U.S.C. 9101 et seq. The Board advises the Director of the Institute on general policies with respect to the duties, powers, and authorities related to Museum and Library Services.

If you need special accommodations due to a disability, please contact: Institute of Museum and Library Services, 1800 M Street, NW., 9th Fl., Washington, DC 20036. Telephone: (202) 653-4676; TDD (202) 653-4614 at least seven (7) days prior to the meeting date.

Dated: February 16, 2010.
Kate Fernstrom,
Chief of Staff.

[FR Doc. 2010-3306 Filed 2-22-10; 8:45 am]

BILLING CODE 7036-01-P